DEPARTMENT OF THE INTERIOR

National Park Service

[NPS-WASO-NAGPRA-18961; PPWOCRADN0-PCU00RP14.R50000]

Notice of Inventory Completion for Native American Human Remains and Associated Funerary Objects in the Possession of the U.S. Department of Defense, Department of the Army, Fort Benning, GA; Correction

AGENCY: National Park Service, Interior.

ACTION: Notice; correction.

SUMMARY: The U.S. Department of Defense, Department of the Army, Fort Benning, GA, has corrected an inventory of human remains and associated funerary objects, published in a Notice of Inventory Completion in the Federal Register on August 29, 2002. This notice corrects the number of associated funerary objects. Lineal descendants or representatives of any Indian tribe or Native Hawaiian organization not identified in this notice that wish to request transfer of control of these associated funerary objects should submit a written request to the U.S. Army, Fort Benning, GA. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the U.S. Army, Fort Benning, GA at the address in this notice by September 30, 2015.

ADDRESSES: Dr. Christopher E. Hamilton, Coordinator for Native American Affairs, 6500 Meloy Drive, Room 309, Fort Benning, GA 31905, telephone (706) 545-4211, email christopher.e.hamilton.civ@mail.mil.

SUPPLEMENTARY INFORMATION: Notice is here given in accordance with the Native American Graves Protection and Repatriation Act (NAGPRA), 25 U.S.C. 3003, of the correction of an inventory of human remains and associated funerary objects under the control of the U.S. Army, Fort Benning, GA. The human remains and associated funerary objects were removed from Russell County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (67 FR 55426, August 29, 2002). Human remains and associated funerary objects were discovered when the National Infantry Museum re-examined its collection in August of 2014. The human remains and associated funerary objects were excavated during the River Basin Survey of 1958 by the Smithsonian Institute at site 1Ru63, in Russell County, AL. The human remains were misidentified as “Rabbit Bones” on an exhibit card. The human remains are believed to be part of the individuals already listed in a Notice of Inventory Completion, and therefore the minimum number of individuals listed in the original notice has not changed. This notice only corrects the number of associated funerary objects listed in that notice. Transfer of control of the items in this correction notice has not occurred.

Correction

In the Federal Register (67 FR 55426, August 29, 2002), paragraph 13 is corrected by replacing sentences 6 and 7 with the following:

In August 2014, associated funerary objects were found at the National Infantry Museum and are believed to be the items noted in the original field notes that were unavailable for review in 2002. The additional associated funerary objects are 2 brass bells, 1 iron buckle, 3 copper buttons, 1 ceramic pipe bowl fragment, 1 conch columella, and 1 ceramic bowl.

In the Federal Register (67 FR 55426, August 29, 2002), paragraph 16, sentence 2 is corrected by replacing the number 1551 with the number 1560.

Additional Requestors and Disposition

Lineal descendants or representatives of any Indian tribe or Native Hawaiian organization not identified in this notice that wish to request transfer of control of these associated funerary objects should submit a written request with information in support of the request to Dr. Christopher E. Hamilton, Coordinator for Native American Affairs, 6500 Meloy Drive, Room 309, Fort Benning, GA 31905, telephone (706) 545-4211, email christopher.e.hamilton.civ@mail.mil, by September 30, 2015. After that date, if no additional requestors have come forward, transfer of control of the associated funerary objects to the Alabama-Coushatta Tribes of Texas; the Alabama-Quassarte Tribal Town, Oklahoma; the Chickasaw Nation; the Coushatta Tribe of Louisiana; the Kialegee Tribal Town, Oklahoma; the Miccosukee Tribe of Indians of Florida; the Muscogee (Creek) Nation, Oklahoma; the Poarch Band of Creek Indians of Alabama; the Seminole Nation of Oklahoma; the Seminole Tribe of Florida; and the Thlopthlocco Tribal Town, Oklahoma may proceed.

The U.S. Army, Fort Benning, GA is responsible for notifying the Alabama-Coushatta Tribes of Texas; the Alabama-Quassarte Tribal Town, Oklahoma; the Chickasaw Nation; the Coushatta Tribe of Louisiana; the Kialegee Tribal Town, Oklahoma; the Miccosukee Tribe of Indians of Florida; the Muscogee (Creek) Nation, Oklahoma; the Poarch Band of Creek Indians of Alabama; the Seminole Nation of Oklahoma; the Seminole Tribe of Florida; and the Thlopthlocco Tribal Town, Oklahoma, that this notice has been published.

Dated: July 31, 2015.
Melanie O'Brien,
Manager, National NAGPRA Program.

[FR Doc. 2015-21495 Filed 8-28-15; 8:45 am]

BILLING CODE 4312-50-P